DEPARTMENT OF THE TREASURY

Internal Revenue Service

26 CFR Part 1

[REG-107592-00]

RIN 1545-BA11

Consolidated Returns; Intercompany Obligations; Hearing

AGENCY: Internal Revenue Service (IRS), Treasury.

ACTION: Cancellation of notice of public hearing on proposed rulemaking.

SUMMARY: This document cancels a public hearing on proposed regulations regarding the treatment of transactions involving obligations between members of a consolidated group and the treatment of transactions involving the provision of insurance between members of a consolidated group.

DATES: The public hearing, originally scheduled for Friday, February 29, 2008, at 10 a.m. is cancelled.

FOR FURTHER INFORMATION CONTACT: Funmi Taylor of the Publications and Regulations Branch, Legal Processing Division, Associate Chief Counsel (Procedure and Administration) at (202) 622-3628 (not a toll-free number).

SUPPLEMENTARY INFORMATION: A notice of public hearing that appeared in the Federal Register on Thursday, January 24, 2008 (73 FR 4131) announced that a public hearing was scheduled for Friday, February 29, 2008, at 10 a.m., in the IRS Auditorium, Internal Revenue Building, 1111 Constitution Avenue, NW., Washington, DC. The subject of the public hearing was the notice of proposed rulemaking (REG-107592-00) that was published in the Federal Register on Friday, September 28, 2007 (72 FR 55139). Specifically, the hearing was to address the addition of proposed § 1.1502-13(e)(2)(ii)(C). Proposed regulation § 1.1502-13(e)(2)(ii)(C), that was the subject of the hearing, has been withdrawn. Therefore the public hearing scheduled for February 29, 2008, is cancelled.

LaNita Van Dyke,
Chief, Publications and Regulations Branch, Legal Processing Division, Associate Chief Counsel (Procedure and Administration).

[FR Doc. 08-822 Filed 2-20-08; 8:48 am]

BILLING CODE 4830-01-P